ENVIRONMENTAL PROTECTION AGENCY

40 CFR Parts 70 and 71

[OAR-2003-0180; FRL-7900-7]

RIN 2060-AM63

Request for Comment on Potentially Inadequate Monitoring in Clean Air Act Applicable Requirements and on Methods To Improve Such Monitoring; Notice of Public Comment Period Extension

AGENCY: Environmental Protection Agency (EPA).

ACTION: Advanced notice of proposed rulemaking (ANPR); notice of public comment period extension.

SUMMARY: The EPA is announcing that the closing date of the public comment period for the advanced notice of proposed rulemaking (ANPR) “Request for Comment on Potentially Inadequate Monitoring in Clean Air Act Applicable Requirements and on Methods To Improve Such Monitoring” (70 FR 7905, February 16, 2005) is extended sixty days from April 18, 2005 until June 17, 2005. After publishing this ANPR, the EPA received a letter dated March 11, 2005, from Environmental Integrity Project and several other environmental and citizens' organizations requesting a 120-day extension of the public comment period to allow the public to provide more meaningful comments, given the broad scope of the ANPR. The EPA believes it is reasonable to extend the public comment period for sixty days and is hereby granting the requested extension for that period.

DATES: Comments must be submitted by June 17, 2005.

ADDRESSES: Submit your comments, identified by Docket ID No. OAR-2003-0180, by one of the following methods:

• Federal eRulemaking Portal: http://www.regulations.gov. Follow the on-line instructions for submitting comments.

• Agency Web site: http://www.epa.gov/edocket. EDOCKET, EPA's electronic public docket and comment system, is EPA's preferred method for receiving comments. Follow the on-line instructions for submitting comments.

• E-mail: Send electronic mail (e-mail) to EPA Docket Center at a-and-r-docket@epamail.epa.gov.

• Fax: Send faxes to EPA Docket Center at (202) 566-1741.

• Air and Radiation Docket, U.S. Environmental Protection Agency, Mail code: 6102T, 1200 Pennsylvania Avenue, NW., Washington, DC 20460.

• Hand Delivery: Air and Radiation Docket, U.S. Environmental Protection Agency, EPA West Building, Room B102, 1301 Constitution Avenue, NW., Washington, DC 20004. Such deliveries are only accepted during the Docket's normal hours of operation, and special arrangements should be made for deliveries of boxed information.

Instructions: Direct your comments to Docket ID No. OAR-2003-0180. The EPA's policy is that all comments received will be included in the public docket without change and may be made available online at http://www.epa.gov/edocket, including any personal information provided, unless the comment includes information claimed to be confidential business information (CBI) or other information whose disclosure is restricted by statute. Do not submit information that you consider to be CBI or otherwise protected through EDOCKET, regulations.gov, or e-mail. The EPA EDOCKET and the Federal regulations.gov Web sites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit EDOCKET on-line or see the Federal Register of May 31, 2002 (67 FR 38102).

Docket: All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the Air and Radiation Docket, EPA/DC, EPA West, Room B102, 1301 Constitution Avenue, NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Mr. Barrett Parker, Emissions, Monitoring, and Analysis Division, Office and Air Quality Planning and Standards, Mail Code C339-02, U.S. Environmental Protection Agency, Research Triangle Park, North Carolina 27711; telephone number: (919) 541-5635; fax number: (919) 541-1039; and e-mail address: parker.barrett@epa.gov.

Dated: April 7, 2005.
Jeffrey F. Clark,
Acting Director, Office of Air Quality Planning and Standards.

[FR Doc. 05-7577 Filed 4-14-05; 8:45 am]

BILLING CODE 6560-50-P